ENVIRONMENTAL PROTECTION AGENCY

[FRL-8029-8]

Science Advisory Board (SAB) Staff Office; Notification of Public Teleconferences of the Arsenic Review Panel

AGENCY: Environmental Protection Agency (EPA).

ACTION: Notice.

SUMMARY: The EPA Science Advisory Board (SAB) Staff Office announces two public teleconferences of the SAB Arsenic Review Panel to continue discussions of its draft report, Advisory on EPA's Assessments of Carcinogenic Effects of Organic and Inorganic Arsenic.

DATES: The dates for the teleconference meetings are February 23, 2006 and February 28, 2006, from 1:30 p.m. to 4 p.m., eastern time on each day.

FOR FURTHER INFORMATION CONTACT: Members of the public who wish to obtain the teleconference call-in number and access code to participate in the teleconferences may contact Mr. Thomas O. Miller, Designated Federal Officer (DFO), by telephone at (202) 343-9982 or e-mail at miller.tom@epa.gov. General information about the SAB, as well as any updates concerning the teleconference announced in this notice, may be found on the SAB Web Site at: http://www.epa.gov/sab.

SUPPLEMENTARY INFORMATION:

Background

Human exposure to arsenic compounds may occur through various environmental media by their use as pesticides (e.g., dessicants/defoliants, wood preservatives) or from industrial wastes. EPA regulates environmental exposure to arsenic compounds pursuant to requirements of several laws (e.g., the Safe Drinking Water Act; the Federal Insecticide, Fungicide, and Rodenticide Act; and the Food Quality Protection Act). EPA requested its Science Advisory Board (SAB) to provide advice on scientific issues underlying the Agency's assessments of the carcinogenic potential of arsenic compounds.

Pursuant to the Federal Advisory Committee Act, Public Law 92-463, notice is hereby given that the SAB Arsenic Review Panel will hold public teleconferences on the dates and times provided above. The purpose of these teleconference meetings is to allow the SAB Panel to continue the discussion of the Panel's draft report, Advisory on EPA's Assessments of Carcinogenic Effects of Organic and Inorganic Arsenic. This draft report was previously discussed at the telephone conference meeting held on January 24, 2006 (see 70 FR 76451-76452). Background on this advisory activity has been provided in Federal Register notices published on February 23, 2005 (70 FR 8803-8804) and July 26, 2005 (70 FR 43144-43145).

Availability of Meeting Materials

A roster of the Panel members, the teleconference agenda, the charge to the Panel may be found on the SAB Web Site at: http://www.epa.gov/sab/panels/arsenic_review_panel.htm. The draft SAB report which is the subject of discussion may be found at: http://www.epa.gov/sab/pdf/arsenic_12-27-2005_dft_for_jan-24-2006.pdf.

EPA's Toxicological Review of Inorganic Arsenic and related background information on inorganic arsenic may be found at: http://www.epa.gov/waterscience/sab. The technical contact for the above information on inorganic arsenic is Dr. Elizabeth Doyle, (202) 566-0056, of the Office of Water. EPA's assessment for organic arsenic, Science Issue Paper: Cancer Mode of Action of Cacodylic Acid (Dimethylarsinic Acid, DMAV and Recommendations for Dose Response Extrapolation and other related background information on organic arsenic may be found at: http://www.epa.gov/oppsrrd1/reregistration/cacodylic_acid. The technical contact for the above information on organic arsenic is Dr. Anna Lowit, (703) 308-4135, of the Office of Pesticide Programs.

Procedures for Providing Public Input

Interested members of the public may submit relevant written or oral information for the SAB Panel to consider during the advisory process. Written and oral statements should not repeat information previously submitted to the Panel at its previous meetings.

Written Statements: Written statements should be submitted at least five days prior to the scheduled conference calls so that the information may be made available to the Panel for their consideration. Written statements should be supplied to the DFO in the following formats: one hard copy with original signature, and one electronic copy via e-mail (acceptable file format: Adobe Acrobat, WordPerfect, Word, or Rich Text files in IBM-PC/Windows 98/2000/XP format).

Oral Statements: The SAB Panel had previously received oral statements from interested members of the public on the SAB draft advisory report during the January 24, 2006 telephone conference meeting. Because of time limitations, oral statements will be scheduled only for the February 28, 2006 meeting. In general, individuals or groups requesting an oral presentation at a public teleconference will be limited to three minutes per speaker with no more than a total of fifteen minutes for all speakers. Interested individuals or groups should contact the DFO, in writing via e-mail by February 26, 2006, to be placed on the public speaker list for the teleconference.

Meeting Accommodations

For information on access or services for individuals with disabilities, please contact the DFO, contact information provided above. To request accommodation of a disability, please contact the DFO, preferably at least 10 days prior to the meeting, to give EPA as much time as possible to process the request.

Dated: February 2, 2006.
Vanessa T. Vu,
Director, EPA Science Advisory Board Staff Office.

[FR Doc. E6-1721 Filed 2-7-06; 8:45 am]

BILLING CODE 6560-50-P